RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Representative Payee Parental Custody Monitoring; OMB 3220-0176.

Under Section 12(a) of the Railroad Retirement Act (RRA) (45 U.S.C. 231k), the Railroad Retirement Board (RRB) is authorized to select, make payments to, and to conduct transactions with, a beneficiary's relative or some other person willing to act on behalf of the beneficiary as a representative payee. The RRB is responsible for determining if direct payment to the beneficiary or payment to a representative payee would best serve the beneficiary's interest. Inherent in the RRB's authorization to select a representative payee is the responsibility to monitor the payee to assure that the beneficiary's interests are protected. The RRB utilizes Form G-99D, Parental Custody Report, to obtain information needed to verify that a parent-for-child representative payee still has custody of the child. One response is required from each respondent.

The RRB proposes the following changes to Form G-99d:

• Minor change item 4 layout.

• Add new item 6 to solicit the total amount of railroad retirement benefits received for the child during the reporting period.

• Add new item 7 to solicit the dollar amount of railroad retirement benefits used for the child during the reporting period.

• Add new item 8 to solicit a description of how the railroad retirement benefits were used for the child during the reporting period.

• Add new item 9 to solicit how the surplus railroad retirement benefits, if any, were held for the child, for example, in cash, a checking account, a savings account, or other means and the tittle of any checking or savings accounts holding surplus benefits.

• Renumbered item 6 Certification to item 10.

• Update to the Paperwork Reduction Act and Privacy Act Notices to change the burden time from 5 to 15 minutes.

Estimate of Annual Respondent Burden
Form No. | Annual responses | Time (minutes) | Burden (hours)
G-99d | 2,100 | 15 | 525
Total | 2,100 |  | 525

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2020-20480 Filed 9-16-20; 8:45 am]

BILLING CODE 7905-01-P